DEPARTMENT OF LABOR

Employment and Training Administration

[TA-W-62,791]

Jaquart Fabric Products Incorporated, Ironwood, MI; Notice of Revised Determination on Reconsideration

On March 31, 2008, the Department of Labor (Department) received a request for administrative reconsideration of the Department's notice of determination regarding workers' eligibility to apply for Trade Adjustment Assistance (TAA) and Alternative Adjustment Assistance (ATAA) applicable to workers and former workers of Jacquart Fabric Products Incorporated, Ironwood, Michigan (the subject firm). The Department's Notice of negative determination was published in the Federal Register on March 7, 2008 (73 FR 12466). Workers are engaged in activity related to the production of motorcycle seats.

The determination was based on the Department's findings that subject firm sales and production increased in 2007 as compared to 2006; the subject firm did not import motorcycle seats; and the subject firm did not shift production abroad. The determination did not indicate whether the subject firm supplied component parts for articles produced by a firm with a currently TAA-certified worker group or assembled or finished articles provided by a firm with a currently TAA-certified worker group.

In the request for reconsideration, a representative of the State of Michigan Department of Labor and Economic Growth asserted that the subject firm produces motorcycle seats for a TAA-certified company (primary firm) and that the subject workers are eligible to apply for TAA as secondarily-affected workers.

In order to receive a secondary certification, a significant number or proportion of workers in the subject firm have been, or are threatened to become, totally or partially separated and that the subject firm is a supplier or downstream producer (finisher or assembler) to a firm that employed a group of workers who received a TAA certification, and such supply or production is related to the article that was the basis for such certification.

In addition, if the subject firm is a supplier to a TAA-certified company, either the component parts supplied to that company must account for at least 20 percent of the subject firm's sales or production, or a loss of business by the subject firm with the TAA-certified firm contributed importantly to the petitioning workers' separations or threat of separation; and, if the subject firm is a downstream producer, the TAA certification of the primary firm must be based on a shift of production to Canada or Mexico or import impact from Canada or Mexico and a loss of business by the subject firm with the TAA-certified firm contributed importantly to the petitioning workers' separations or threat of separation.

On reconsideration, the Department confirmed that a significant number or proportion of the workers in the subject firm has become totally separated or partially separated.

Based on new and additional information provided by the subject firm and the primary firm during the reconsideration investigation, the Department determines that the subject workers produced upholstered seat cushions; that the subject firm supplied these articles to MILSCO Manufacturing Company, A Unit of Jason Incorporation, Milwaukee, Wisconsin (TAA certified on November 27, 2007; TA-W-62,382); that the supply of upholstered seat cushions is related to the motorcycle seats that are the basis for the primary firm workers' certification; and the component part it supplied to the firm (or subdivision) accpunted for at least 20 percent of the production or sales of the workers firm.

Based on the afore-mentioned information, the Department determines that the petitioning worker group has satisfied the requirements for secondary TAA certification.

In accordance with Section 246 the Trade Act of 1974 (26 U.S.C. 2813), as amended, the Department herein presents the results of its investigation regarding certification of eligibility to apply for ATAA. The Department has determined in this case that the group eligibility requirements of Section 246 have been met.

A significant number of workers at the firm are age 50 or over and possess skills that are not easily transferable. Competitive conditions within the industry are adverse.

Conclusion

After careful review of the information obtained in the reconsideration investigation, I determine that workers and former workers of Jacquart Fabric Products Incorporated, Ironwood, Michigan, qualify as adversely affected secondary workers under Section 222 of the Trade Act of 1974, as amended.

In accordance with the provisions of the Act, I make the following certification:

“All workers of Jacquart Fabric Products Incorporated, Ironwood, Michigan, who became totally or partially separated from employment on or after January 31, 2007, through two years from the date of this certification, are eligible to apply for adjustment assistance under Section 223 of the Trade Act of 1974, and are eligible to apply for alternative trade adjustment assistance under Section 246 of the Trade Act of 1974.”

Signed at Washington, DC this 7th day of May 2008.
Elliott S. Kushner,
Certifying Officer, Division of Trade Adjustment Assistance.

[FR Doc. E8-10590 Filed 5-12-08; 8:45 am]

BILLING CODE 4510-FN-P